ENVIRONMENTAL PROTECTION AGENCY

[EPA-HQ-OPPT-2018-0605; FRL-9983-09]

Request for Nominations of Experts To Consider for ad hoc Participation and Possible Membership on the Toxic Substances Control Act (TSCA), Science Advisory Committee on Chemicals (SACC)

AGENCY: Environmental Protection Agency (EPA).

ACTION: Notice.

SUMMARY: The EPA requests public nominations of scientific experts to be considered for ad hoc participation and possible membership on the Toxic Substances Control Act (TSCA) Science Advisory Committee on Chemicals (SACC). All nominees will be considered for ad hoc participation in the TSCA SACC's peer reviews of the EPA's risk evaluations for the first 10 chemical substances addressed under the TSCA. In addition, all nominees may be considered for TSCA SACC membership to fulfill short term needs when a vacancy occurs on the chartered Committee.

DATES: Nominations. Nominations should be provided to the Designated Federal Official (DFO) listed under FOR FURTHER INFORMATION CONTACT on or before October 29, 2018.

For additional instructions, see Unit I.B. of the SUPPLEMENTARY INFORMATION.

FOR FURTHER INFORMATION CONTACT: Dr. Todd Peterson, DFO, Office of Science Coordination and Policy (7201M), Environmental Protection Agency, 1200 Pennsylvania Ave. NW, Washington, DC 20460-0001; telephone number: (202) 564-6428; email address: peterson.todd@epa.gov.

SUPPLEMENTARY INFORMATION:

I. General Information

A. Does this action apply to me?

This action is directed to the public in general. This action may, however, be of interest to persons who are or may be required to conduct testing and risk evaluations of chemical substances under the Toxic Substances Control Act (TSCA). Since other entities may also be interested, the Agency has not attempted to describe all the specific entities that may be affected by this action.

B. What should I consider as I prepare my nominations for EPA?

1. Submitting CBI. Do not submit CBI information to EPA through regulations.gov or email. If your nomination contains any information that you consider to be CBI or otherwise protected, please contact the DFO listed under FOR FURTHER INFORMATION CONTACT to obtain special instructions before submitting your nomination.

2. Request for nominations to be considered for ad hoc participation and possible membership on the TSCA SACC. As part of a broader process for developing a pool of candidates, OSCP staff solicits from the public and stakeholder communities nominations of prospective candidates for service as ad hoc reviewers and possibly members of TSCA SACC. Any interested person or organization may nominate qualified individuals to be considered as prospective candidates. Individuals may self-nominate. Individuals nominated should have expertise in one or more of the following areas: Women's health; children's health; genetic variability; disproportionately exposed populations; aging; other susceptible populations; biochemistry; chemistry; epidemiology; human health risk assessment; pathology; PBPK modeling; pharmacology; ecological risk assessment; environmental fate; environmental toxicology; occupational, consumer, and general exposure assessment; toxicology; dose response modeling; environmental engineering; biostatistics; computational toxicology; fiber science; inhalation toxicology; volatile organics; and systematic review. Nominees should be scientists who have sufficient professional qualifications, including training and experience, to be capable of providing expert comments on the scientific issues for a TSCA SACC meeting. Nominees should be identified by name, occupation, position, address, email address, and telephone number. Nominations should be provided to the DFO listed under FOR FURTHER INFORMATION CONTACT on or before October 29, 2018. The Agency will consider all nominations of prospective candidates for service as ad hoc reviewers and possibly members of the TSCA SACC that are received on or before that date. However, final selection of ad hoc participants and members is at the discretion of the Agency.

The selection of scientists to serve as ad hoc reviewers and members of the TSCA SACC is based on the function of the Committee and the expertise needed to address the Agency's charge to the Committee. No interested scientists shall be ineligible to serve by reason of their membership on any other advisory committee to a Federal department or agency or their employment by a Federal department or agency, except EPA. Other factors considered during the selection process include availability of the prospective candidate to fully participate in the Committee's reviews, absence of any conflicts of interest or appearance of loss of impartiality, independence with respect to the matters under review, and lack of bias. Although financial conflicts of interest, the appearance of loss of impartiality, lack of independence, and bias may result in disqualification, the absence of such concerns does not assure that a candidate will be selected to serve on TSCA SACC. Often, numerous available and qualified candidates are identified for ad hoc participation and membership. Therefore, selection decisions involve carefully weighing a number of factors including the candidates' areas of expertise and professional qualifications and achieving an overall balance of different scientific perspectives on the Committee.

TSCA SACC members are subject to the provisions of 5 CFR part 2634—Executive Branch Financial Disclosure, Qualified Trusts, and Certificates of Divestiture, as supplemented by EPA in 5 CFR part 6401. In anticipation of this requirement, prospective candidates for service on TSCA SACC will be asked to submit confidential financial information which shall fully disclose, among other financial interests, the candidate's employment, stocks and bonds, and where applicable, sources of research support. EPA will evaluate the candidates' financial disclosure forms to assess whether there are financial conflicts of interest, appearance of a loss of impartiality, or any prior involvement with the development of the documents under consideration (including previous scientific peer review) before the candidate is considered further for service on TSCA SACC. Those who are selected from the pool of prospective candidates will be asked to attend the public meetings and to participate in the discussion of key issues and assumptions at these meetings. In addition, they will be asked to review and to help finalize the meeting minutes. The list of ad hoc reviewers and TSCA SACC members participating at each meeting will be posted on the TSCA SACC website at http://www.epa.gov/tsca-peer-review or may be obtained from the OPPT Docket at http://www.regulations.gov.

II. Background

A. Purpose of TSCA SACC

The Science Advisory Committee on Chemicals (SACC) was established by EPA in 2016 under the authority of the Frank R. Lautenberg Chemical Safety for the 21st Century Act, Public Law 114-182, 140 Stat. 448 (2016), and operates in accordance with the Federal Advisory Committee Act (FACA) of 1972. The SACC supports activities under the Toxic Substances Control Act (TSCA), 15 U.S.C. 2601 et seq., the Pollution Prevention Act (PPA), 42 U.S.C. 13101 et seq., and other applicable statutes. The SACC provides independent scientific advice and recommendations to the EPA on the scientific and technical aspects of risk assessments, methodologies, and pollution prevention measures and approaches for chemicals regulated under TSCA.

The SACC is comprised of experts in: Toxicology; environmental risk assessment; exposure assessment; and related sciences (e.g., synthetic biology, pharmacology, biotechnology, nanotechnology, biochemistry, biostatistics, PBPK modeling, computational toxicology, epidemiology, environmental fate, and environmental engineering and sustainability). The SACC currently consists of 26 members. When needed, the committee will be assisted in their reviews by ad hoc reviewers with specific expertise in the topics under consideration.

At this time, EPA is seeking nominations to create a pool of experts who can be available to the SACC to assist in reviews conducted by the Committee. EPA anticipates selecting experts from this pool, as needed, to assist the SACC in their review of EPA's risk evaluations for the first 10 chemical substances addressed under the TSCA: Pigment Violet 29; 1,4-Dioxane, Asbestos; Cyclic Aliphatic Bromide Cluster (HBCD); 1-Bromopropane; Perchloroethylene; Trichloroethylene; Carbon Tetrachloride; Methylene Chloride; and n-Methylpyrolidone.

In addition, EPA anticipates selecting from the pool of experts, as needed, to appoint SACC members to fulfill short term needs when a vacancy occurs on the Committee due to resignation or reasons other than expiration of a term.

Authority: 15 U.S.C. 2625 et seq.; 5 U.S.C. Appendix 2 et seq.

Dated: September 4, 2018.
Stanley Barone, Jr.,
Acting Director, Office of Science Coordination and Policy.

[FR Doc. 2018-19952 Filed 9-12-18; 8:45 am]

BILLING CODE 6560-50-P